DEPARTMENT OF DEFENSE

Department of the Army

Draft Environmental Impact Statement (DEIS) in Support of the Real Property Master Plan (RPMP) and Real Property Exchange (RPX) for Camp Parks, Dublin, CA

AGENCY: Department of the Army, DoD.

ACTION: Notice of availability.

SUMMARY: The U.S. Army Chief of Staff for Installation Management (ACSIM), Army Reserve Installations Directorate (ARID) and U.S. Army Combat Support Training Center (CSTC) have prepared a DEIS in support of the RPMP and RPX on Camp Parks. The RPMP presents a plan for the redevelopment of the cantonment area of Camp Parks, with approximately 180-acres being transferred out of Federal ownership (approximately 171.5-acres is controlled by the U.S. Army and 8.5-acres controlled by the National Aeronautics and Space Administration (NASA)).

DATES: The public comment period for the DEIS will end 45 days after publication of the NOA in the Federal Register by the U.S. Environmental Protection Agency.

ADDRESSES: Questions and/or written comments pertaining to this DEIS, or a request for a copy of the document may be directed to the U.S. Army Chief of Staff for Installation Management (ACSIM), Army Reserve Installations Directorate (ARID) (Mr. David Borchardt), 3848 Northwest Drive, Suite 160, Atlanta, Georgia 30337.

FOR FURTHER INFORMATION CONTACT: Mr. David Borchardt, 3848 Northwest Drive, Suite 160, Atlanta, Georgia 30337, or Amy Phillips, Public Affairs Office, US Army CTSC, Camp Parks 790 5th Street, Dublin, CA 94568-5201; via phone at (925) 875-4298; or e-mail: amy.phillips@usar.army.mil.

SUPPLEMENTARY INFORMATION: The DEIS evaluates three alternatives to support the redevelopment of Camp Parks: (1) The no action alternative, under which there would be no comprehensive plan or vision for overall Camp Parks development, which would occur ad hoc as funds became available and facilities would remain largely unchanged; (2) the slow growth alternative, under which Camp parks would retain all its land holdings and gradually move towards developing faculties and activities identified in the RPMP; the southern cantonment Area would remain an opportunity site for future planning; and (3) accelerated modernization in a redeveloped compacted cantonment area (the proposed action), under which the RPMP would be implemented using the value of the land exchange (180-acres of the southern Cantonment area from Federal to private ownership) in return for new installation facilities and infrastructure with NASA's inholding being sold and that value being used at their NASA-Ames Research Center, Moffet Field, California. The strategic location of Camp Parks in northern California makes it the most accessible and economical training resource for over 250 Reserve component units supporting over 20,000 Reservists. The installation supports combined training space and facilities for the Armed Forces, and other Federal and local agencies in the north central part of California. ACSIM-ARID and CSTC have prepared a RPMP that proposed a program for revitalizing the installation infrastructure and accelerating facility replacements.

The RPMP proposes approximately 1.3 million square feet of new buildings/structures and approximately 370,000 square feet of parking area. Majority of the existing structures on Camp Parks were intended to be temporary when originally constructed and are considered inadequate for today's military personnel and lifestyles. The RPMP proposes the modernization of facilities to meet the troop training requirements and amenities that are consistent tot he private sector.

The DEIS concludes the no action alternative is not reasonable based on the infrastructure and buildings at Camp Parks being antiquated and requiring excessive maintenance. The DEIS concludes the slow growth alternative, the incremental modernization utilizing existing cantonment area i not reasonable since facility/activity upgrades would be prioritized and dependent on annual funding from Military Construction Army Reserve (MCAR) allocations and project proponents. MCAR funds are appropriated on a availability basis which is not a regular and consistent occurrence.

ACSIM-ARID and U.S. Army CSTC have concluded the proposed alternative to be the preferred alternative which is the accelerated modernization in a redeveloped compacted cantonment area at Camp Parks, under which the RPMP would be implemented using the value of the land exchange (180 acres of the southern cantonment area transferring from Federal to private ownership) in return for new faculties and infrastructure. This alternative provides a quick implementation of the RPMP while providing the necessary facilities and infrastructure upgrades for adequate training for military personnel in the Bay Area.

Meeting Dates and Review Period: A public meeting will be held in the vicinity of Camp Parks to present the DEIS as well as to answer any questions and allow the Public and local governments to comment on the action. A notice of the public meeting will be published in local newspapers.

Dated: May 9, 2007.
Addison D. Davis, IV,
Deputy Assistant Secretary of the Army, (Environment, Safety and Occupational Health).

[FR Doc. 07-2722 Filed 5-31-07; 8:45 am]

BILLING CODE 3710-08-M